DEPARTMENT OF ENERGY

Federal Energy Regulatory Commission

[Docket No. CP14-539-000]

Ozark Gas Transmission, LLC; Supplemental Notice of Intent To Prepare an Environmental Assessment for the Proposed Ozark Abandonment Project and Request for Comments on Environmental Issues

On October 7, 2014, the Commission issued a “Notice of Intent to Prepare an Environmental Assessment for the Ozark Abandonment Project, And Request for Comments on Environmental Issues” (NOI). It has come to our attention that the environmental mailing list was not provided copies of the NOI; therefore we are issuing this Supplemental NOI to extend the scoping period and provide additional time for interested parties to file comments on environmental issues.

The staff of the Federal Energy Regulatory Commission (FERC or Commission) will prepare an environmental assessment (EA) that will discuss the environmental impacts of the Ozark Abandonment Project (Project) involving abandonment of facilities by Ozark Gas Transmission, LLC (Ozark). The Commission will use this EA in its decision-making process to determine whether the project is in the public convenience and necessity.

The Commission and cooperating agencies continue to gather input from the public and interested agencies on the Project. This process is referred to as scoping. Your input will help the Commission staff determine what issues they need to evaluate in the EA. The original NOI identified November 6, 2014 as the close of the scoping period. Please note that the scoping period is now extended and will close on December 1, 2014.

This notice is being sent to the Commission's current environmental mailing list for this Project. State and local government representatives should notify their constituents of the Project and encourage them to comment on their areas of concern.

If you are a landowner receiving this notice, a pipeline company representative may contact you about the proposed facilities. Ozark provided landowners with a fact sheet prepared by the FERC entitled “An Interstate Natural Gas Facility On My Land? What Do I Need To Know?” This fact sheet addresses a number of typically-asked questions, including how to participate in the Commission's proceedings. It is also available for viewing on the FERC Web site (www.ferc.gov).

Summary of the Proposed Project

Ozark proposes to abandon in place and remove from service approximately 159 miles of mainline natural gas pipeline facilities between Sebastian and White Counties, Arkansas. In addition, Ozark would disconnect and abandon 29 associated metering and regulating facilities and other appurtenant facilities, as necessary. Ozark is proposing to abandon the aforementioned facilities due to underutilization and lack of market interest.

Specifically, Ozark would abandon in place the following facilities:

• 127.5 miles of 20-inch-diameter Line 1 in Franklin, Johnson, Pope, Conway, Faulkner, and White Counties from mile post (MP) 127.52 to MP 0.00;

• 26.4 miles of 10-inch-diameter Line 2 in Sebastian, Franklin, and Logan Counties From MP 0.00 to MP 26.37;

• 4.8 miles of 12-inch-diameter Line 1-A in White County from MP 0.00 to MP 4.75;

• 29 associated metering and regulating facilities, located along Line 1, 2, and 1-A, in Franklin, Logan, Johnson, Pope, Conway, Faulkner, and White Counties; and other appurtenant facilities, as necessary.

The general location of the facilities to be abandoned is shown in appendix 1.¹

¹ The appendices referenced in this notice will not appear in the Federal Register. Copies of appendices were sent to all those receiving this notice in the mail and are available at www.ferc.gov using the link called “eLibrary” or from the Commission's Public Reference Room, 888 First Street NE., Washington, DC 20426, or call (202) 502-8371. For instructions on connecting to eLibrary, refer to the last page of this notice.

Land Requirements for Abandonment

The abandonment activities, including excavation and ground disturbance, would disturb about 23.6 acres of land, of which 22.7 acres would be within existing facility sites operated by Ozark. The remaining acreage of impact would be within Ozark's existing easements, pipeline right of way, or original construction corridor. Following construction, only existing sites at Noark and Searcy Compressor Stations and the existing permanent pipeline right-of-way would continue to be maintained. All land disturbed outside of existing sites or permanent pipeline right of way would be restored and return to former uses.

Future Use of the Abandoned Pipeline Facilities

Following the abandonment, Ozark indicates that several parties would perform activities that are not under the jurisdiction of the FERC. In the EA, we will provide available descriptions of the non-jurisdictional facilities and include them under our analysis of cumulative impacts.

After abandonment, Ozark would transfer the assets to an affiliate, which would lease the facilities to Magellan Pipeline Company, L.P (Magellan) for refined petroleum products transportation service. The affiliate and Magellan would undertake conversion work on the abandoned lines to prepare them for refined petroleum transportation.

Additionally, after abandonment, Ozark's existing customer, SourceGas, would construct, install, and operate about 6.3 miles of new 2-inch- and 6-inch-diameter pipeline laterals and perform a meter station upgrade in Logan County in order to transfer SoureGas' existing firm service on the abandoned facilities to an economically viable transportation alternative. Furthermore, Ozark Gas Gathering, LLC (OGG) would make reconnections on their system to continue service at two locations.

The EA Process

The National Environmental Policy Act (NEPA) requires the Commission to take into account the environmental impacts that could result from an action whenever it considers the issuance of a Certificate of Public Convenience and Necessity. NEPA also requires us ² to discover and address concerns the public may have about proposals. This process is referred to as “scoping.” The main goal of the scoping process is to focus the analysis in the EA on the important environmental issues. By this notice, the Commission requests public comments on the scope of the issues to address in the EA. We will consider all filed comments during the preparation of the EA.

² “We,” “us,” and “our” refer to the environmental staff of the Commission's Office of Energy Projects.

In the EA we will discuss impacts that could occur as a result of the abandonment of facilities under these general headings:

• Geology and soils;

• land use;

• water resources, fisheries, and wetlands;

• cultural resources;

• vegetation and wildlife;

• air quality and noise;

• endangered and threatened species; and

• public safety.

We will also evaluate reasonable alternatives to the proposed Project or portions of the Project, and make recommendations on how to lessen or avoid impacts on the various resource areas.

The EA will present our independent analysis of the issues. The EA will be available in the public record through the FERC's eLibrary system. Depending on the comments received during the scoping process, we may also publish and distribute the EA to the public for an allotted comment period. We will consider all comments on the EA before making our recommendations to the Commission. To ensure we have the opportunity to consider and address your comments, please carefully follow the instructions in the Public Participation section of this NOI.

With this notice, we are asking agencies with jurisdiction by law and/or special expertise with respect to the environmental issues of this project to formally cooperate with us in the preparation of the EA.³ Agencies that would like to request cooperating agency status should follow the instructions for filing comments provided under the Public Participation section of this notice.

³ The Council on Environmental Quality regulations addressing cooperating agency responsibilities are at Title 40, Code of Federal Regulations, Part 1501.6.

Consultations Under Section 106 of the National Historic Preservation Act

In accordance with the Advisory Council on Historic Preservation's implementing regulations for Section 106 of the National Historic Preservation Act, we are using this notice to initiate consultation with the Arkansas State Historic Preservation Office (SHPO), and to solicit their views and those of other government agencies, interested Indian tribes, and the public on the Project's potential effects on historic properties.⁴ We will define the project-specific Area of Potential Effects (APE) in consultation with the SHPO as the Project develops. On natural gas facility projects, the APE at a minimum encompasses all areas subject to ground disturbance. Our EA for the Project will document our findings on the impacts on historic properties and summarize the status of consultations under Section 106.

⁴ The Advisory Council on Historic Preservation's regulations are at Title 36, Code of Federal Regulations, Part 800. Those regulations define historic properties as any prehistoric or historic district, site, building, structure, or object included in or eligible for inclusion in the National Register of Historic Places.

Public Participation

You can make a difference by providing us with your specific comments or concerns about the Project. Your comments should focus on the potential environmental effects, reasonable alternatives, and measures to avoid or lessen environmental impacts. The more specific your comments, the more useful they will be. To ensure that your comments are timely and properly recorded, please send your comments so that the Commission receives them in Washington, DC on or before December 1, 2014.

For your convenience, there are three methods which you can use to submit your comments to the Commission. In all instances please reference the Project docket number (CP14-539-000) with your submission. The Commission encourages electronic filing of comments and has expert staff available to assist you at (202) 502-8258 or efiling@ferc.gov.

(1) You can file your comments electronically using the eComment feature on the Commission's Web site (www.ferc.gov) under the link to Documents and Filings. This is an easy method for interested persons to submit brief, text-only comments on a project;

(2) You can file your comments electronically using the eFiling feature on the Commission's Web site (www.ferc.gov) under the link to Documents and Filings. With eFiling, you can provide comments in a variety of formats by attaching them as a file with your submission. New eFiling users must first create an account by clicking on “eRegister.” You must select the type of filing you are making. If you are filing a comment on a particular project, please select “Comment on a Filing”; or

(3) You can file a paper copy of your comments by mailing them to the following address: Kimberly D. Bose, Secretary, Federal Energy Regulatory Commission, 888 First Street NE., Room 1A, Washington, DC 20426.

Environmental Mailing List

The environmental mailing list includes federal, state, and local government representatives and agencies; elected officials; environmental and public interest groups; Indian Tribes; other interested parties and non-governmental organizations; and local libraries and newspapers. This list also includes all affected landowners (as defined in the Commission's regulations) who are potential right-of-way grantors, whose property may be used temporarily for abandonment purposes, or who own homes within certain distances of aboveground facilities. We will update the environmental mailing list as the analysis proceeds to ensure that we send the information related to this environmental review to all individuals, organizations, and government entities interested in and/or potentially affected by the proposed Project.

If we publish and distribute the EA, copies will be sent to the environmental mailing list for public review and comment. If you would prefer to receive a paper copy of the document instead of the CD version or would like to remove your name from the mailing list, please return the attached Information Request (appendix 2).

Becoming an Intervenor

In addition to involvement in the EAs coping process, you may want to become an “intervenor” which is an official party to the Commission's proceeding. Intervenors play a more formal role in the process and are able to file briefs, appear at hearings, and be heard by the courts if they choose to appeal the Commission's final ruling. An intervenor formally participates in the proceeding by filing a request to intervene. Instructions for becoming an intervenor are in the User's Guide under the “e-filing” link on the Commission's Web site.

Additional Information

Additional information about the project is available from the Commission's Office of External Affairs, at (866) 208-FERC, or on the FERC Web site at www.ferc.gov using the “eLibrary” link. Click on the eLibrary link, click on “General Search” and enter the docket number, excluding the last three digits in the Docket Number field (i.e., CP14-539). Be sure you have selected an appropriate date range. For assistance, please contact FERC Online Support at FercOnlineSupport@ferc.gov or toll free at (866) 208-3676, or for TTY, contact (202) 502-8659. The eLibrary link also provides access to the texts of formal documents issued by the Commission, such as orders, notices, and rulemakings.

In addition, the Commission now offers a free service called eSubscription which allows you to keep track of all formal issuances and submittals in specific dockets. This can reduce the amount of time you spend researching proceedings by automatically providing you with notification of these filings, document summaries, and direct links to the documents. Go to www.ferc.gov/docs-filing/esubscription.asp.

Finally, public meetings or site visits will be posted on the Commission's calendar located at www.ferc.gov/EventCalendar/EventsList.aspx along with other related information.

Dated: October 30, 2014.
Kimberly D. Bose,
Secretary.

[FR Doc. 2014-26388 Filed 11-5-14; 8:45 am]

BILLING CODE 6717-01-P